DEPARTMENT OF THE INTERIOR

National Park Service

[NPS-AKR-DENA] [9924-PYS]

National Park Service Alaska Region's Subsistence Resource Commission (SRC) Program

AGENCY: National Park Service, Interior.

ACTION: Notice of public meeting for the National Park Service Alaska Region's Subsistence Resource Commission (SRC) program.

SUMMARY: The Denali National Park SRC will meet to develop and continue work on National Park Service (NPS) subsistence hunting program recommendations and other related subsistence management issues. The NPS SRC program is authorized under Title VIII, Section 808 of the Alaska National Interest Lands Conservation Act, Public Law 96-487, to operate in accordance with the provisions of the Federal Advisory Committee Act.

Public Availability of Comments: This meeting is open to the public and will have time allocated for public testimony. The public is welcome to present written or oral comments to the SRC. This meeting will be recorded and meeting minutes will be available upon request from the park superintendent for public inspection approximately six weeks after each meeting. Before including your address, telephone number, e-mail address, or other personal identifying information in your comment, you should be aware that your entire comment-including your personal identifying information—may be made publicly available at any time. While you can ask us in your comment to withhold your personal identifying information from public review, we cannot guarantee that we will be able to do so.

Denali National Park SRC Meeting Date and Location: The Denali National Park SRC will meet at the Cantwell Community Center (Phone: 907-768-2591) in Cantwell, Alaska on Saturday, February 26, 2011, from 9 a.m. to 5 p.m. The meeting maybe rescheduled to occur on Tuesday, February 22, 2011, at the same time and location should a quorum not be available on Saturday, February 26, 2011. If the meeting date and location are changed, a notice will be published in local newspapers and announced on local radio stations prior to the meeting date. SRC meeting location and dates may need to be changed based on lack of quorum, inclement weather or local circumstances.

For Further Information On the Denali National Park SRC Meeting Contact: Philip Hooge, Assistant Superintendent and Amy Craver, Subsistence Manager, (907) 683-2231, Denali National Park and Preserve, P.O. Box 9, Denali Park, Alaska 99755, or Clarence Summers, Subsistence Manager, NPS Alaska Regional Office, at (907) 644-3603.

Proposed SRC Meeting Agenda

The proposed meeting agenda includes the following:

1. Call to order

2. SRC Roll Call and Confirmation of Quorum

3. Welcome and Introductions

4. Approval of Minutes

5. Administrative Announcements

6. Approve Agenda

7. Review SRC Purpose and Status of Membership

8. SRC Member Reports

9. Public and Other Agency Comments

10. Federal Subsistence Board Update

11. Alaska Board of Game Update

12. Old Business

a. Subsistence Uses of Horns, Antlers, Bones and Plants EA Update

b. SRC Chair's Workshop 2010

13. New Business

a. Subsistence Manager Report

b. Ranger Report

c. Resource Management Program Update

14. Public and other Agency Comments

15. SRC Work Session

16. Set Time and Place for next SRC Meeting

17. Adjournment

Victor W. Knox,
Deputy Regional Director, Alaska.

[FR Doc. 2011-3258 Filed 2-11-11; 8:45 am]

BILLING CODE 4310-PF-P